DEPARTMENT OF COMMERCE

National Oceanic and Atmospheric Administration

[I.D. 010603B]

Receipt of an Application for Direct Take Permit (1412)

AGENCY: National Marine Fisheries Service (NMFS), National Oceanic and Atmospheric Administration (NOAA), Commerce

ACTION: Notice of availability for public comment.

SUMMARY: NMFS has received an application for a direct take permit (Permit 1412) from the Confederated Tribes of the Colville Reservation (Colville Tribes) pursuant to the Endangered Species Act of 1973, as amended (ESA). As required by the ESA, the Colville Tribes have prepared a Conservation Plan, in the form of a Hatchery and Genetic Management Plan (HGMP), designed to minimize and mitigate any such take of endangered or threatened species. The Permit application is for the direct and incidental take of ESA-listed adult and juvenile salmonids associated with carrying out the hatchery program for endangered Upper Columbia River steelhead in the Okanogan River and its tributaries in the state of Washington. The duration of the proposed Permit is 5 years. NMFS is furnishing this notice in order to allow other agencies and the public an opportunity to review and comment on these documents. All comments received will become part of the public record and will be available for review pursuant to the ESA.

DATES: Written comments from interested parties on the Permit application and HGMP must be received at the appropriate address or fax number (see ADDRESSES) no later than 5 pm Pacific daylight time on February 13, 2003.

ADDRESSES: Written comments on the application and HMGP should be sent to Kristine Petersen, Sustainable Fisheries Division, F/NWR2, 525 N.E. Oregon Street, Suite 510, Portland, OR 97232. Comments may also be sent via fax to 503/872-2737. Comments will not be accepted if submitted via e-mail or the Internet. Requests for copies of the permit application and Conservation Plan should be directed to the Sustainable Fisheries Division, F/NWR2, 525 NE Oregon Street, Suite 510, Portland, OR 97232. The documents are also available on the Internet at http://www.nwr.noaa.gov/. Comments received will also be available for public inspection, by appointment, during normal business hours by calling 503/230-5409.

FOR FURTHER INFORMATION CONTACT: Kristine Petersen, Portland, OR (ph: 503/230-5409, fax: 503/872-2737, e-mail: Kristine.Petersen@noaa.gov).

SUPPLEMENTARY INFORMATION: Section 9 of the ESA and Federal regulations prohibit the “taking” of a species listed as endangered or threatened. The term “take” is defined under the ESA to mean harass, harm, pursue, hunt, shoot, wound, kill, trap, capture, or collect, or to attempt to engage in any such conduct. NMFS may issue permits, under limited circumstances, to take listed species for scientific purposes or to enhance the propagation or survival of the species under section 10(a)(1)(A) of the ESA. NMFS regulations governing permits for threatened and endangered species are promulgated at 50 CFR 222.307.

Species Covered in This Notice

The following evolutionarily significant unit (ESU) is included in the HGMP and Permit application:

Steelhead (Oncorhynchus mykiss): endangered, naturally produced and artificially propagated Upper Columbia River (UCR).

The Upper Columbia River Basin steelhead ESU was listed as endangered on August 18, 1997 (62 FR 43937). Included in the listing decision was the determination that the Wells Hatchery stock was part of the ESU and essential for recovery efforts. This conclusion is primarily based on very low estimates of the recruits per spawner ratio, which indicate that productivity of naturally spawning steelhead in this ESU is far below the replacement rate.

On October 23, 2002, the Colville Tribes submitted an application to NMFS for an ESA section 10(a)(1)(A) permit for the take of ESA-listed anadromous fish species associated with operation of hatchery programs producing hatchery steelhead for release into Omak Creek, a third order tributary of the Columbia River, in 2004 to 2009. The proposed programs produce steelhead of native stock to enhance local naturally spawning salmon populations.

Hatchery and Genetics Management Plan

The HGMP prepared by the Colville Tribes describes measures designed to monitor, minimize, and mitigate the take of ESA-listed anadromous steelhead and the incidental takes of ESA-listed salmon associated with the following steelhead hatchery program that is proposed to be implemented from 2003 through 2009:

Artificial propagation of steelhead is intended to recover and enhance the natural steelhead population in Omak Creek and the Okanogan River Basin. The Colville Tribes propose to collect up to 16 adult steelhead for broodstock from Omak Creek. Holding and spawning of broodstock would be conducted at the Colville Tribal Trout Hatchery. Steelhead eggs would be incubated and initial rearing would occur at the Colville Tribal Trout Hatchery. Steelhead smolts would be raised to a size range of 10 to 15 fish per pound and released into Omak Creek using a tank truck. The proposed steelhead program goal is approximately 40,000 smolts released in April or May.

Mortalities of ESA-listed fish associated with the steelhead hatchery programs are requested at levels specified in the Permit application. The Colville Tribes are proposing to limit broodstock collection, and juvenile fish production and release methods applied at the hatcheries such that the direct impacts on ESA-listed salmonids will be minimized.

This notice is provided pursuant to section 10(c) of the ESA. NMFS will evaluate the application, associated documents, and comments submitted thereon to determine whether the application meets the requirements of section 10(a)(1)(A) of the ESA. If it is determined that the requirements are met, a permit will be issued to the Colville Tribes for the steelhead enhancement program in the Okanogan River Basin. NMFS will publish a record of its final action in the Federal Register.

Dated: January 8, 2003.
Phil Williams,
Chief, Endangered Species Division, Office of Protected Resources, National Marine Fisheries Service.

[FR Doc. 03-697 Filed 1-13-03; 8:45 am]

BILLING CODE 3510-22-S